DEPARTMENT OF COMMERCE

National Institute of Standards and Technology

Judges Panel of the Malcolm Baldrige National Quality Award

AGENCY: National Institute of Standards and Technology, Department of Commerce.

ACTION: Notice of open meeting.

SUMMARY: The Judges Panel of the Malcolm Baldrige National Quality Award (Judges Panel) will meet on Wednesday, June 5, 2019, from 9:00 a.m. to 3:30 p.m. Eastern Time. The purpose of this meeting is to discuss and review the role and responsibilities of the Judges Panel and information received from the National Institute of Standards and Technology (NIST) in order to ensure the integrity of the Malcolm Baldrige National Quality Award (Award) selection process. The agenda will include: Judges Panel roles and processes; Baldrige Program updates; new business/public comment; lessons learned from the 2018 judging process; and the 2019 Award process.

DATES: The Judges Panel will meet on Wednesday, June 5, 2019 from 9:00 a.m. until 3:30 p.m. Eastern Time. The meeting will be open to the public.

ADDRESSES: The meeting will be held at the National Institute of Standards and Technology, Building 101, Lecture Room A, 100 Bureau Drive, Gaithersburg, MD 20899. Please note participation instructions under the SUPPLEMENTARY INFORMATION section of this notice.

FOR FURTHER INFORMATION CONTACT: Robert Fangmeyer, Director, Baldrige Performance Excellence Program, National Institute of Standards and Technology, 100 Bureau Drive, Mail Stop 1020, Gaithersburg, MD 2899-1020, 301-975-2361. Mr. Fangmeyer's email address is robert.fangmeyer@nist.gov.

SUPPLEMENTARY INFORMATION:

Authority: 15 U.S.C. 3711a(d)(1) as amended, and the Federal Advisory Committee Act, as amended, 5 U.S.C. App.

Pursuant to the Federal Advisory Committee Act, as amended, 5 U.S.C. App., notice is hereby given that the Judges Panel of the Malcolm Baldrige National Quality Award will meet on Wednesday, June 5, 2019 from 9:00 a.m. to 3:30 p.m. Eastern Time. The Judges Panel is composed of twelve members, appointed by the Secretary of Commerce, chosen for their familiarity with quality improvement operations and competitiveness issues of manufacturing companies, service companies, small businesses, nonprofits, health care providers, and educational institutions. The primary purpose of this meeting is to assemble to discuss and review the role and responsibilities of the Judges Panel and information received from NIST in order to ensure the integrity of the Malcolm Baldrige National Quality Award selection process. The agenda may change to accommodate Judges Panel business. The final agenda will be posted on the NIST website at https://patapsco.nist.gov/BoardofExam/Examiners_Judge2.cfm. The meeting is open to the public.

Individuals and representatives of organizations who would like to offer comments and suggestions related to the Committee's/Board's business are invited to request a place on the agenda. Approximately 30 minutes will be reserved for public comments and speaking times will be assigned on a first-come, first-serve basis. The amount of time per speaker will be determined by the number of requests received but is likely to be about 3 minutes each. Questions from the public will not be considered during this period. Speakers who wish to expand upon their oral statements, those who had wished to speak but could not be accommodated on the agenda, and those who were unable to participate are invited to submit written statements to the Baldrige Performance Excellence Program, Attention: Robyn Verner, National Institute of Standards and Technology, 100 Bureau Drive, Mail Stop 1020, Gaithersburg, Maryland 20899-1020, via fax at (301) 975-4967, or electronically by email to robyn.verner@nist.gov.

All visitors to the NIST site are required to pre-register to be admitted. Please submit your full name, time of arrival, email address, and phone number to Robyn Verner by 4:00 p.m. Eastern Time, Friday, May 31, 2019. Non-U.S. citizens must submit additional information; please contact Ms. Verner. Ms. Verner's email address is robyn.verner@nist.gov and her phone number is (301) 975-2361. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please contact Ms. Verner at (301) 975-2361 or visit: http://www.nist.gov/public_affairs/visitor/.

Kevin A. Kimball,
Chief of Staff.

[FR Doc. 2019-11091 Filed 5-28-19; 8:45 am]

BILLING CODE 3510-13-P